DEPARTMENT OF DEFENSE

Department of the Air Force

Public Interface Control Working Group for the NAVSTAR GPS Public Documents

AGENCY: Global Positioning System (GPS), Department of the Air Force, Department of Defense.

ACTION: Meeting notice.

SUMMARY: The Department of the Air Force is publishing this notice to announce the Space and Missile Systems Center, Portfolio Architect Corp will host the 2021 Public Interface Control Working Group and Open Public Forum to update the public on GPS public document revisions and collect issues/comments for analysis and possible integration into future GPS public document revisions.

DATES: Open to the public in person and virtually Wednesday, September 29, 2021 from 8:30 a.m. to 4:00 p.m. and Tuesday, November 19, 2019, from 8:00 a.m. to 4:00 p.m. (Pacific Time).

ADDRESSES: This meeting will be held in person at Los Angeles AFB, Great Room,-PCT Campus, 100 Sepulveda, Blvd., El Segundo, CA 90245 and virtually accessed here: https://saicwebconferencing.zoomgov.com/j/1609131495?pwd=WTNkK01ES0pCc2NqR1VJdjhkd3NEQT09 and/or https://conference-okc.apps.mil/webconf/2021PublicICWG Primary Dial In: 571-200-1700, Meeting ID: 160 913 1495, Password: 813441 and Backup Dial In: 410-874-6300, Conference PIN: 961616381.

FOR FURTHER INFORMATION CONTACT: Lt. Adam Barnette, (310) 653-9518 (Voice), SMCGPER@us.af.mil (Email), SMC/ZACS, 483 North Aviation Blvd., El Segundo, CA 90245-2807.

SUPPLEMENTARY INFORMATION: Any member of the public wishing to provide comments may submit them to the Space & Missile Systems Center, GPS Requirements Section at SMCGPER@us.af.mil by August 24, 2021. Special topics may also be considered for the Public Open Forum. If you wish to present a special topic, please submit any materials to SMC/ZACS-PNT no later than August 18th, 2021. Comments will be collected, cataloged, and discussed as potential inclusions to the version following the current release. If accepted, these changes will be processed through the formal change management process for IS-GPS-200, IS-GPS-705, and IS-GPS-800. All comments must be submitted in a Comments Resolution Matrix. This form along with proposed document revisions of the documents and the official meeting notice are posted at: https://www.gps.gov/technical/icwg/meetings/2021. Please register for this event by emailing SMCGPER@us.af.mil, providing your name, organization, telephone number, email address, and country of citizenship, as well as desired mode of attendance (in-person or virtual). Attendees are highly encouraged to participate virtually. Facility capacity may be reduced based on government restrictions; in-person attendees should plan accordingly. Attendees will be expected to comply with COVID-19 health precautions in place on the date of the meeting, which are subject to change (e.g. social distancing and wearing a facemask). Backup dial-in & screen share website will only be used in case of primary system technical difficulties.

Adriane Paris,
Acting Air Force Federal Register Liaison Officer.

[FR Doc. 2021-16360 Filed 7-30-21; 8:45 am]

BILLING CODE 5001-10-P